FEDERAL COMMUNICATIONS COMMISSION

[Report No. 2917]

Petitions for Reconsideration of Action in Rulemaking Proceeding

Sep 22, 2010.

SUMMARY: Petitions for Reconsideration have been filed in the Commission's Rulemaking proceeding listed in this Public Notice and published pursuant to 47 CFR Section 1.429(e). The full text of these documents is available for viewing and copying in Room CY-B402, 445 12th Street, S.W., Washington, D.C. or may be purchased from the Commission's copy contractor, Best Copy and Printing, Inc. (BCPI) (1-800-378-3160). Oppositions to these petitions must be filed within 15 days of the date of public notice of the petitions in the Federal Register. See Section 1.4(b) (1) of the Commission's rules (47 CFR 1.4(b) (1)). Replies to an opposition must be filed within 10 days after the time for filing oppositions has expired.

Subject: In the Matter of Amendment of Part 27 of the Commission's Rules to Govern the Operation of Wireless Communications Services in the 2.3 GHz Band (WT Docket No. 07-293)

Establishment of Rules and Policies for the Digital Audio Radio Satellite Service in the 23100-2360 MHz Frequency Band (IB Docket No. 95-91)

NUMBER OF PETITIONS FILED: [6]

Federal Communications Commission.
Marlene H. Dortch,
Secretary,
Office of the Secretary,
Office of Managing Director.

[FR Doc. 2010-24633 Filed 9-30-10; 8:45 am]

BILLING CODE 6712-01-S